DEPARTMENT OF HEALTH AND HUMAN SERVICES

Centers for Disease Control and Prevention

[60Day-08-08BF]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Evaluation Models to Assess Patient Perspectives on Opt-out HIV testing in Clinical Settings—New—National Center for HIV, Viral Hepatitis, STD and TB Prevention (NCHHSTP), Centers for Disease Control and Prevention (CDC).

Background and Brief Description

In 2006, CDC published the Revised Recommendations for HIV Testing of Adults, Adolescents and Pregnant Women in Health Care Settings which recommends routine, opt-out HIV testing to persons 13-64 years of age in health care settings. The goal of this project is to develop evaluation models for health care providers in a variety of settings to independently assess the effect that expanded HIV screening activities have on patient attitudes toward and acceptance of HIV testing.

The evaluation models will be packaged into a toolkit containing educational materials, administrative tools and a model questionnaire to measure patients' perceptions of their ability to decline testing, the sufficiency and effectiveness of methods used to impart information prior to testing, and satisfaction with the testing process.

As part of the development of a model questionnaire for inclusion in the toolkit, three health care settings (a hospital emergency department, a private primary care practice and a public primary care practice) will be selected to pilot test the questionnaire. In each health care site, 150 patients will be asked to voluntarily complete a brief computer assisted self interview regarding their experience with the HIV testing process during their health care visit.

Collection of data will include information on patient demographics and current behaviors that may facilitate HIV transmission; perceptions regarding pressure to take the test; confidentiality and privacy during testing; and patient satisfaction and acceptance of opt-out HIV testing. For persons who refused HIV testing during their visit, information about refusal will be collected.

Results from the three pilot sites will be assessed to understand issues of feasibility of the model questionnaire and validity of the included items and scales. The findings from the three site evaluations will be used to improve the model questionnaire and protocols included in the evaluation models toolkit.

CDC plans to complete data collection in 3 health care settings in one year. CDC estimates that 188 patients will be asked to participate at each site during the one year of data collection and that 80% will accept, resulting in approximately 450 new survey respondents across all sites. The average duration of the survey is estimated to be 20 minutes.

Participation is voluntary. There is no cost to the respondents other than their time.

Estimated Annualized Burden Hours
Type of data collection | Number of respondents | Average number of responses per respondent | Average burden per response (hours) | Total burden (hours)
Clinic Patient Survey | 450 | 1 | 20/60 | 150

Dated: June 9, 2008.
Maryam I. Daneshvar,
Acting Reports Clearance Officer, Centers for Disease Control and Prevention.

[FR Doc. E8-13317 Filed 6-12-08; 8:45 am]

BILLING CODE 4163-18-P